COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List products and a service to be furnished by nonprofit agencies employing persons who are blind or have other severe disabilities.

DATES: Effective Date: October 21, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: On June 15 and July 20, 2007, the Committee for Purchase From People Who Are Blind or Severely Disabled published notice (72 FR 33200; 39786) of proposed additions to the Procurement List.

After consideration of the material presented to it concerning capability of qualified nonprofit agencies to provide the products and service and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and services proposed for addition to the Procurement List.

End of Certification

Accordingly, the following products and service are added to the Procurement List:

Products

Glow Plug

NSN: 2920-01-456-6985.

NPA: Shares Inc., Shelbyville, IN.

Contracting Activity: Defense Supply Center Columbus, Columbus, OH.

Coverage: C-List for the requirements of the Defense Supply Center Columbus, Columbus, OH.

Portfolio, Writing, CAMO (ACU Digitized)

NSN: 7510-00-NIB-0753—Memo size w/pad.

NSN: 7510-00-NIB-0764—Letter Size w/pad.

NSN: 7510-00-NIB-0765—Memo Size w/brass clip and pad.

NSN: 7510-00-NIB-0766—Letter Size w/brass clip and pad.

NSN: 7510-00-NIB-0805—US Army Logo. Memo Size w/pad.

NSN: 7510-00-NIB-0808—Pocket Size w/pad.

NPA: New York City Industries for the Blind, Inc., Brooklyn, NY.

Coverage: A-List for the total Government requirements as specified by the General Services Administration.

Portfolio, Writing, Custom Color and logo

NSN: 7510-00-NIB-0806—Memo Size w/pad.

NPA: New York City Industries for the Blind, Inc., Brooklyn, NY.

Coverage: B-List for the broad Government requirements of the General Services Administration.

Contracting Activity: General Services Administration, Office Supplies & Paper Products Acquisition Ctr, New York, NY.

Service

Service Type/Location: Commissary Warehousing, Warehouse Building 3335, 3335 Central Avenue, Suite 100, Eielson AFB, AK.

NPA: Fairbanks Resource Agency, Fairbanks, AK.

Contracting Activity: Defense Commissary Agency, Fort Lee, VA.

This action does not affect current contracts awarded prior to the effective date of this addition or options that may be exercised under those contracts.

Louis R. Bartalot,
Director, Program Analysis and Evaluation.

[FR Doc. E7-18630 Filed 9-20-07; 8:45 am]

BILLING CODE 6353-01-P